DEPARTMENT OF COMMERCE

Bureau of Industry and Security

15 CFR Part 774

[Docket No. 141229999-5828-02]

RIN 0694-AG45

Implementation of the Australia Group (AG) November 2013 Intersessional Decisions; Correction

AGENCY: Bureau of Industry and Security, Commerce.

ACTION: Correcting amendments.

SUMMARY: The Bureau of Industry and Security (BIS) publishes this final rule to correct typographical errors contained in a final rule published on June 16, 2015 (80 FR 34266), which amended the Export Administration Regulations (EAR) to implement the recommendations presented at the November 2013 Australia Group (AG) intersessional implementation meeting and later adopted pursuant to the AG silent approval procedure. The typographical errors appear in a Note to ECCN 1C351.a, which includes viruses identified on the AG “List of Human and Animal Pathogens and Toxins for Export Control.” This rule also identifies another typographical error in the June 16, 2015, final rule involving the “Reason for Control” paragraph for ECCN 1E351. This error does not require a correction at this time, but is being identified to provide clarification to the public.

DATES: This rule is effective September 18, 2015.

FOR FURTHER INFORMATION CONTACT: Richard P. Duncan, Ph.D., Director, Chemical and Biological Controls Division, Office of Nonproliferation and Treaty Compliance, Bureau of Industry and Security, Telephone: (202) 482-3343, Email: Richard.Duncan@bis.doc.gov.

SUPPLEMENTARY INFORMATION:

On June 16, 2015, the Bureau of Industry and Security (BIS) published the final rule “Implementation of the Australia Group (AG) November 2013 Intersessional Decisions” (80 FR 34266), which amended the Export Administration Regulations (EAR) to reflect the merger of two AG common control lists by removing ECCN 1C352 (animal pathogens) from the CCL and adding the pathogens previously controlled under ECCN 1C352 to ECCN 1C351 (human and zoonotic pathogens and “toxins”). The latter ECCN was renamed to indicate that it controls both human and animal pathogens and “toxins.” That final rule also renumbered the items in ECCN 1C351.a, and certain items in ECCN 1C351.c to accommodate the addition to ECCN 1C351 of those items that had been controlled under ECCN 1C352 prior to the publication of that rule.

As amended by the June 16, 2015, final rule, the Note to ECCN 1C351.a.4 (which controls avian influenza viruses identified as having high pathogenicity) incorrectly referenced ECCN 1C352.a.4, instead of ECCN 1C351.a.4. This final rule corrects the references contained in that Note. Specifically, the Note to ECCN 1C351.a.4 is corrected to read as follows: “Avian influenza (AI) viruses of the H5 or H7 subtype that do not have either of the characteristics described in 1C351.a.4 (specifically, 1C351.a.4.a or a.4.b) should be sequenced to determine whether multiple basic amino acids are present at the cleavage site of the haemagglutinin molecule (HA0). If the amino acid motif is similar to that observed for other HPAI isolates, then the isolate being tested should be considered as HPAI and the virus is controlled under 1C351.a.4.” The corrections to this Note do not affect the scope of the controls described in ECCN 1C351.a.4.

In addition, the text for ECCN 1E351, as published in the June 16, 2015, final rule incorrectly identified the applicable controls for this ECCN under the “Reason for Control” paragraph in the License Requirements section. Specifically, the “Reason for Control” paragraph mistakenly identified the applicable controls for ECCN 1E351 as “NS, MT, NP, CB, RS, AT,” instead of “CB, AT.” It is not necessary, however, to amend ECCN 1E351 to correct this error, because the amendatory instructions for ECCN 1E351 in the June 16, 2015, final rule did not include a specific instruction to amend the “Reason for Control” paragraph for this ECCN. Consequently, the “Reason for Control” paragraph in ECCN 1E351 was not revised by the June 16, 2015, final rule. The paragraph, as published in the CCL, continues to correctly identify the applicable controls for this ECCN as “CB, AT.” BIS identifies this error to inform the public of the inconsistency between the contents of the June 16, 2015, final rule and the CCL, and to provide clarification regarding the applicable controls for ECCN 1E351.

Although the Export Administration Act expired on August 20, 2001, the President, through Executive Order 13222 of August 17, 2001, 3 CFR, 2001 Comp., p. 783 (2002), as amended by Executive Order 13637 of March 8, 2013, 78 FR 16129 (March 13, 2013), and as extended by the Notice of August 7, 2015 (80 FR 48,233 (Aug. 11, 2015)), has continued the Export Administration Regulations in effect under the International Emergency Economic Powers Act. BIS continues to carry out the provisions of the Export Administration Act, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule contains a collection of information subject to the requirements of the PRA. This collection has been approved by OMB under Control Number 0694-0088 (Multi-Purpose Application), which carries a burden hour estimate of 58 minutes to prepare and submit form BIS-748. Send comments regarding this burden estimate or any other aspect of this collection of information, including suggestions for reducing the burden, to Jasmeet Seehra, Office of Management and Budget (OMB), and to the Regulatory Policy Division, Bureau of Industry and Security, Department of Commerce, 14th Street & Pennsylvania Avenue NW., Room 2705, Washington, DC 20230.

3. This rule does not contain policies with Federalism implications as that term is defined in Executive Order 13132.

4. The provisions of the Administrative Procedure Act (5 U.S.C. 553) requiring notice of proposed rulemaking and the opportunity for public participation are waived for good cause because they are unnecessary and contrary to the public interest. (See 5 U.S.C. 553(b)(B)). The changes contained in this rule are non-substantive technical corrections of a previously published rule that has already been exempted from notice and comment. This rule is necessary to ensure clarity in the regulations and accuracy regarding the scope of controls in the Note to ECCN 1C351.a.4. If this rule were delayed to allow for notice and comment, it would result in further confusion caused by the incorrect cross-references in that ECCN. These changes are also essential to ensuring the accurate and complete implementation of the June 16, 2015, final rule.

The provision of the Administrative Procedure Act (5 U.S.C. 553) requiring a 30-day delay in effectiveness is also waived for good cause. (5 U.S.C. 553(d)(3)). The corrections contained in this final rule are non-substantive technical corrections of a previously published rule that has already been exempted from notice and comment. If this rule were delayed to allow for a 30-day delay in effectiveness, it would result in further confusion caused by the incorrect cross-references in the aforementioned ECCN. These changes are also essential to ensuring the accurate and complete implementation of the June 16, 2015, final rule.

Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form.

List of Subjects in 15 CFR Part 774

Exports, Reporting and recordkeeping requirements.

For the reasons stated in the preamble, part 774 of the Export Administration Regulations (15 CFR parts 730-774) is amended as follows:

PART 774—[AMENDED]

1. The authority citation for 15 CFR part 774 continues to read as follows:

Authority: 50 U.S.C. app. 2401 et seq.; 50 U.S.C. 1701 et seq.; 10 U.S.C. 7420; 10 U.S.C. 7430(e); 22 U.S.C. 287c, 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 7, 2015 (80 FR 48233 (Aug. 11, 2015)).

2. In Supplement No. 1 to Part 774 (the Commerce Control List), Category 1— Special Materials and Related Equipment, Chemicals, “Microorganisms” and “Toxins,” ECCN 1C351 is amended under the “Items” paragraph in the List of Items Controlled section by revising the Note immediately following paragraph a.4.b to read as follows:

Supplement No. 1 to Part 774—the Commerce Control List

* * * * *

1C351 Human and animal pathogens and “toxins”, as follows (see List of Items Controlled).

* * * * *

List of Items Controlled

* * * * *

Items:

a. * * *

a.4. * * *

a.4.b. * * *

Note: Avian influenza (AI) viruses of the H5 or H7 subtype that do not have either of the characteristics described in 1C351.a.4 (specifically, 1C351.a.4.a or a.4.b) should be sequenced to determine whether multiple basic amino acids are present at the cleavage site of the haemagglutinin molecule (HA0). If the amino acid motif is similar to that observed for other HPAI isolates, then the isolate being tested should be considered as HPAI and the virus is controlled under 1C351.a.4.

* * * * *

Dated: September 10, 2015.
Karen H. Nies-Vogel,
Director, Office of Exporter Services.

[FR Doc. 2015-23500 Filed 9-17-15; 8:45 am]

BILLING CODE 3510-33-P